SMALL BUSINESS ADMINISTRATION

Delegations of Authority: Delegations of Authority No. 12-G (Revision 1), Amendment 3

AGENCY: U.S. Small Business Administration.

ACTION: Notice of amendment to delegations of authority.

SUMMARY: This document provides the public notice of the third amendment to Delegations of Authority (Delegations), No. 12-G (Revision 1) as last amended by Amendment 2 which delegated authority for lender oversight and enforcement activities by the Administrator of the Small Business Administration (“SBA” or “Agency”) to the Director, Office of Credit Risk Management (D/OCRM), the Lender Oversight Committee (LOC), and the Associate Administrator for Office of Capital Access (AA/OCA). By this third amendment (hereinafter “Amendment”), the Administrator is revising the voting membership of the Agency's LOC to ensure compliance with requirements set forth in statute.

DATES: This Amendment is applicable February 23, 2026.

FOR FURTHER INFORMATION CONTACT: Bethany J. Shana, Office of Credit Risk Management, U.S. Small Business Administration, 409 3rd Street SW, Washington, DC 20416; telephone number: (202) 205-6402; and electronic mail: bethany.shana@sba.gov.

SUPPLEMENTARY INFORMATION: This document provides the public notice of this Amendment to Delegations of Authority No. 12-G (Revision 1) (79 FR 56842, September 23, 2014) with respect to SBA's lender oversight and enforcement activities. Specifically, this Amendment revises the membership of the Agency's Lender Oversight Committee (LOC) by revising the voting and non-voting membership composition.

Section 48(b) of the Small Business Act (15 U.S.C. 657u(b)) governs LOC membership. This section provides that the LOC consists of at least eight members. Three members of the LOC are to be voting members; two of whom must be career appointees in the Senior Executive Service. By amendment dated April 25, 2022 (87 FR 24386), SBA designated the following employees as the voting members of the LOC: (i) the Chief Financial Officer (CFO), a Senior Executive Service career appointee; (ii) the Associate Administrator for Capital Access (AA/OCA), a Senior Executive Service non-career appointee; and (iii) the Deputy Associate Administrator for Office of Investment and Innovation (DAA/OII), a Senior Executive Service career appointee. The CFO also was to continue to serve as the LOC Chairperson, and the LOC non-voting advisory membership was to remain the same. 87 FR at 24387.

In this Amendment, SBA is amending the voting membership of the LOC to ensure compliance with the position requirements contained in 15 U.S.C. 657u. Effective with this Amendment, the following SBA employees are designated as the voting members of the LOC: (i) the Deputy Associate Administrator for the Office of Investment and Innovation (DAA/OII), a Senior Executive Service career appointee; (ii) the Associate Administrator for OCA (AA/OCA), a Senior Executive Service non-career appointee; and (iii) the Deputy Associate Administrator, Office of Field Operations (DAA/OFO), a Senior Executive Service career appointee. The Chief Financial Officer will continue to serve as the LOC Chairperson and will be a non-voting advisory member.

This Amendment replaces section I.B.6. of the Delegations in its entirety, which covers LOC membership and voting, as set forth below. All other sections of the Delegations are unchanged and continue in effect.

Delegations of Authority No. 12-G (Revision 1) is amended by revising section I.B.6 to read as follows:

B. To the Lender Oversight Committee:

* * * * *

6. The Lender Oversight Committee will consist of SBA's: (i) Deputy Associate Administrator for the Office of Investment and Innovation (DAA/OII) (voting member); (ii) Associate Administrator for Office of Capital Access (AA/OCA) (voting member); (iii) Deputy Associate Administrator, Office of Field Operations (DAA/OFO) (voting member); (iv) Chief Financial Officer (CFO) (Chairperson and non-voting advisory member); (v) Director, Office of Credit Risk Management (D/OCRM) (non-voting, recommending advisory member); (vi) Director, Office of Financial Assistance (D/OFA) (non-voting advisory member); (vii) Director, Office of Financial Program Operations (D/OFPO) (non-voting advisory member); and (viii) General Counsel (non-voting advisory member).

* * * * *

Authority: 5 U.S.C. 302; 5 U.S.C. 552(a)(1)(A); 5 U.S.C. 3132; 15 U.S.C. 631 note; 15 U.S.C. 634; 15 U.S.C. 636; 15 U.S.C. 642; 15 U.S.C. 650; 15 U.S.C. 657t and 657u; 15 U.S.C. 697d, 697e, and 697g; 2 CFR 2700 et. seq; and 13 CFR. 120.10, 120.802 and Subpart I.

Kelly L. Loeffler,
Administrator.

[FR Doc. 2026-03454 Filed 2-20-26; 8:45 am]

BILLING CODE 8026-09-P